ENVIRONMENTAL PROTECTION AGENCY

40 CFR Part 52

[EPA-R06-OAR-2017-0054; FRL-9960-14-Region 6]

Approval and Promulgation of Implementation Plans; Texas; Clean Air Act Requirements for Vehicle Inspection and Maintenance, Nonattainment New Source Review and Emission Statements

AGENCY: Environmental Protection Agency (EPA).

ACTION: Proposed rule.

SUMMARY: Pursuant to the Federal Clean Air Act (CAA or the Act), the Environmental Protection Agency (EPA) is proposing to approve a State Implementation Plan (SIP) revision submitted by the State of Texas for the 2008 8-hour ozone national ambient air quality standards (NAAQS). The SIP revision being proposed for approval describes how CAA requirements for vehicle inspection and maintenance (I/M), nonattainment new source review (NNSR) and emission statements are met in the Houston-Galveston-Brazoria ozone nonattainment area (HGB area) for the 2008 ozone NAAQS. EPA is also proposing to make a ministerial correction to the Code of Federal Regulations (CFR) to accurately reflect approved SIP revisions that pertain to Texas I/M provisions.

DATES: Written comments should be received on or before June 14, 2017.

ADDRESSES: Submit your comments, identified by EPA-R06-OAR-2017-0054, at http://www.regulations.gov or via email to young.carl@epa.gov. For additional information on how to submit comments see the detailed instructions in the ADDRESSES section of the direct final rule located in the rules section of this Federal Register.

FOR FURTHER INFORMATION CONTACT: Carl Young, (214) 665-6645, young.carl@epa.gov.

SUPPLEMENTARY INFORMATION: In the final rules section of this Federal Register, the EPA is approving the State's SIP submittal as a direct final rule without prior proposal because the Agency views this as noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: April 14, 2017.
Samuel Coleman,
Acting Regional Administrator, Region 6.

[FR Doc. 2017-09473 Filed 5-12-17; 8:45 am]

BILLING CODE 6560-50-P